NATIONAL SCIENCE FOUNDATION

Special Emphasis Panel in Physics; Notice of Meeting

In accordance with the Federal Advisory Committee Act (Pub. L. 92-463, as amended), the National Science Foundation announces the following meeting:

Name: Special Emphasis Panel in Physics (1208).

Date/Time: May 9-11, 2001, 8:30 am-5:00 pm.

Place: Room II-585, National Science Foundation, 4201 Wilson Blvd Arlington, VA.

Type of Meeting: Closed.

Contact Person: Dr. John W. Lightbody, Jr., National Science Foundation, 4201 Wilson Blvd, Arlington, VA 22230, Telephone: (703) 292-7378.

Purpose of Meeting: To provide advice and recommendations concerning proposals submitted the National Science Foundation for financila support.

Agenda: Review various proposals.

Reason for Closing: The proposals being review include information of a proprietary or confidential nature, including technical information; financial data such as salaries; and personal information concerning individuals associated with the proposals. These matters are exempt under 5 U.S.C. 552b(c), (4) and (6) of the Government in the Sunshine Act.

Dated: April 10, 2001.
Susanne Bolton,
Committee Management Officer.

[FR Doc. 01-9199 Filed 4-12-01; 8:45 am]

BILLING CODE 7555-01-M